EXECUTIVE OFFICE OF THE PRESIDENT

Office of Management and Budget

[OMB Bulletin No. 06-01 Correction]

To the Heads of Executive Departments and Establishments; Correction to OMB Bulletin No. 06-01, Update of Statistical Area Definitions and Guidance on Their Uses

April 25, 2006.

The Greeley, CO Metropolitan Statistical Area is hereby added to the Denver-Aurora-Boulder, CO Combined Statistical Area. This addition was inadvertently omitted when the update of the statistical areas was issued in bulletin No. 06-01 on December 5, 2005.

The Combined Statistical Area is defined as follows:

216 Denver-Aurora-Boulder, CO Combined Statistical Area

Boulder, CO Metropolitan Statistical Area

Denver-Aurora, CO Metropolitan Statistical Area

Greeley, CO Metropolitan Statistical Area

The Office of Management and Budget (OMB) will post on its Web site a copy of Bulletin No. 06-01, as corrected by this addition.

The next update of the statistical area definitions will take place this fall. If your agency receives expressions of interest, by the public or others, in optional Combined Statistical Areas, OMB will need to receive Congressional local opinion as required by section 8 of the standards by September 29, 2006, in order to ensure that requests can be given full consideration as we develop the next update. Congressional local opinion letters should be addressed to the Director of OMB.

Inquiries concerning the Metropolitan and Micropolitan Statistical Area Standards and the statistical uses of their definitions should be directed to Suzann Evinger (202-395-3093).

Inquiries about uses of the statistical area definitions in program administration or regulation should be directed to the appropriate agency.

Clay Johnson III,
Acting Director.

[FR Doc. 06-4255 Filed 5-4-06; 8:45 am]

BILLING CODE 3110-01-M